DEPARTMENT OF HEALTH AND HUMAN SERVICES

Centers for Medicare & Medicaid Services

42 CFR Parts 413, 419, and 489

[CMS-1159-F4]

RIN 0938-AK54

Medicare Program; Correction of Certain Calendar Year 2002 Payment Rates Under the Hospital Outpatient Prospective Payment System and the Pro Rata Reduction on Transitional Pass-Through Payments; Correction of Technical and Typographical Errors

AGENCY: Centers for Medicare & Medicaid Services (CMS), HHS.

ACTION: Final rule.

SUMMARY: This final rule corrects inadvertent technical errors that affect the amounts and factors used to determine the payment rates for services paid under the Medicare hospital outpatient prospective payment system as published in the November 30, 2001 final rule entitled “Changes to the Hospital Outpatient Prospective Payment System for Calendar Year 2002.” In addition, this final rule corrects the amount of the uniform reduction to be applied to transitional pass-through payments for CY 2002. This final rule also corrects other technical and typographical errors that appeared in the November 30, 2001 final rule.

EFFECTIVE DATE: This final rule is effective on April 1, 2002. The effective date for § 419.32(b)(1)(iii), revised at 66 FR 59856, published on November 30, 2001 and § 419.62(d), added at 66 FR 55865, published on November 2, 2001, is April 1, 2002.

FOR FURTHER INFORMATION CONTACT: Robert Braver, (410) 786-0378.

SUPPLEMENTARY INFORMATION:

Availability of Copies and Electronic Access

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $9. As an alternative, you can view and photocopy the Federal Register document at most libraries designated as Federal Depository Libraries and at many other public and academic libraries throughout the country that receive the Federal Register.

This Federal Register document is also available from the Federal Register online database through GPO Access, a service of the U.S. Government Printing Office. The Web site address is: http://www.access.gpo.gov/nara/index.html.

I. Background

On November 30, 2001, we published a final rule announcing the final ambulatory payment classification (APC) groups, relative weights, and payment rates under the hospital outpatient prospective payment system (OPPS) for calendar year (CY) 2002 (66 FR 59856). As discussed in detail in that final rule, in setting the APC relative weights, we incorporated 75 percent of the estimated transitional pass-through costs for devices eligible for transitional pass-through payments in CY 2002 into the costs of the APC groups associated with the use of the devices (66 FR 59906).

After publication of the November 30, 2001 final rule, we discovered that the final rule reflected several inadvertent technical errors in which we incorrectly associated specific devices approved for transitional pass-through payments with particular procedures. The magnitude of these errors was significant enough to affect not only the estimate of total transitional pass-through payments and the uniform reduction percentage to be applied to transitional pass-through payments in 2002, but also the payment rates for all procedure-related APCs. (Procedure-related APCs are those other than the APCs for pass-through drugs and devices, new technology, and partial hospitalization.) Using rates that reflected these errors would have inappropriately affected payments to hospitals. Thus, we determined that it would be inappropriate to allow the payment rates published on November 30, 2001 to become effective without further changes. In order to ensure that there were no other errors that might also have significant implications for OPPS payments, we decided to undertake an intensive review of the relevant data files. Because of the time needed for this review, we were unable to complete it and recalculate the rates before the previously published effective date of January 1, 2002 announced in the November 30, 2001 final rule. We therefore decided to continue to pay for services covered under the OPPS after January 1, 2002 and until no later than April 1, 2002 under the rates in effect on December 31, 2001. In addition, we decided to make transitional pass-through payments during that period without applying the uniform reduction announced on November 30, 2001.

Therefore, on December 31, 2001, we published a final rule, entitled “Prospective Payment System for Hospital Outpatient Services; Delay in Effective Date of Calendar Year 2002 Payment Rates and the Pro Rata Reduction on Transitional Pass-Through Payments' (66 FR 67494), that announced we would indefinitely delay the effective date for §§ 419.32(b)(1)(iii) and 419.62(d) of the regulations. We also announced that we were delaying until no later than April 1, 2002, the effective date of the updated OPPS payment rates and the uniform reduction of transitional pass-through payments that we published in the preamble and addenda of the November 30, 2001 final rule.

We did not delay the following provisions of the November 30, 2001 final rule:

• Medicare, Medicaid, and SCHIP Benefits Improvement and Protection Act of 2000 coinsurance limit.

• Limitation of copayment amount to inpatient hospital deductible amount.

• Changes in services covered within the scope of OPPS.

• Categories of hospitals subject to, and excluded from, the OPPS.

• Criteria for new technology APCs.

• Provider-based issues.

• Change to the definition of “single-use devices” for transitional pass-through payments.

We have also discovered typographical and other technical errors in the preamble and addenda to the November 30, 2001 final rule. These errors involve the incorrect assignment of status indicators (SIs) to certain Physicians' Current Procedural Terminology (CPT) codes, inconsistencies between the preamble and addenda in the assignment of codes to APC groups, and similar matters. Correction of these typographical and technical errors does not involve any changes in the policies announced in the November 30, 2001 final rule. Corrections to the preamble text are listed below. The appropriate corrections are incorporated into the new addenda A, B, C, and D. The corrected addenda A and D are printed at the end of this rule. Addenda B and C are available on our Web site: http://www.cms.hhs.gov. Tables 2 and 3 below summarize the corrections to the errors in addenda A and B.

II. Correction of Errors

In the FR Doc. 01-29621 published November 30, 2001 (66 FR 59856), we are making the corrections described below.

A. Corrections of Device Cost Assignments to APCs

Since publication of the December 31, 2001 final rule, we have conducted an intensive internal review of device costs associated with specific CPT codes. We have also considered information concerning the use of devices brought to our attention from hospitals, manufacturers, and other such sources. As a result of this review, we determined that we had inadvertently associated device(s) with certain procedures for which no devices are used, incorrectly identified device(s) used with certain other procedures, or failed to associate one or more devices with procedures requiring the use of those devices. The following APCs were affected:

• APC 0084 Level I Electrophysiologic Evaluation

• APC 0085 Level II Electrophysiologic Evaluation

• APC 0090 Insertion/Replacement of Pacemaker/Pulse Generator

• APC 0091 Level I Vascular Ligation

• APC 0104 Transcatheter Placement of Intracoronary Stents

• APC 0229 Transcatheter Placement of Intravascular Shunts

• APC 0237 Level III Posterior Segment Eye Procedures

• APC 0241 Level IV Repair and Plastic Eye Procedures

• APC 0242 Level V Repair and Plastic Eye Procedures

• APC 0246 Cataract Procedures with IOL Insert

• APC 0248 Laser Retinal Procedures

• APC 0312 Radioelement Applications

• APC 0313 Brachytherapy

The changes in the assignment of device costs associated with these 13 APCs resulted in a net reduction in the estimate of total transitional pass-through payments for CY 2002.

In addition, the changes in the assignment of device costs associated with these 13 APCs have caused changes to the median costs for these APCs. (Median costs are used to set the relative weights of each APC. The relative weight of each APC is the ratio of its median cost to the median cost of APC 601, Mid-level clinic visit, adjusted by the “scalar” that is discussed below.) We found that the changes in the assignment of device costs and the resulting changes in the median costs of the 13 associated APC groups affected the relative payment weights for all procedure-related APCs as well as the estimate of aggregate CY 2002 payments.

The changes in relative payment weights resulting from revisions in the assignment of device costs associated with the 13 APCs identified above required that we recalculate the “scalar,” which is the factor that we use to ensure compliance with section 1833(t)(9)(B) of the Social Security Act (the Act). That section of the Act provides that APC reclassification and recalibration changes (and wage index changes) must be made in a manner so that the estimated aggregate payments under the OPPS for a particular year are neither greater nor less than the estimated aggregate payments would have been without these changes. The corrections, as well as appropriate adjustments made under the authority of section 1833(t)(2)(E) of the Act, have the overall effect of revising the scalar from 0.945, which we announced in the November 30, 2001 final rule (66 FR 59886), to 0.951. This revised scalar has the effect of slightly increasing the relative weights of the procedure-related APCs (except for those for which we revised the device-associated costs).

We are also revising the target that we set for outlier payments in the November 30, 2001 final rule from 2.0 percent to 1.5 percent, and thus we are revising the threshold for outlier payments from 3 times the applicable APC payment for a service to 3.5 times the applicable payment amount for a service. These adjustments ensure that the payment rate for every procedure-related APC is at least equal to and in no case lower than the rate published in the November 30, 2001 final rule (except for those APCs for which we revised the device-associated costs). The conversion factor is reduced by 1.5 percent (rather than 2.0 percent) to reflect the revised outlier target and 0.5 percent for the adjustments described above that are due to changes in relative payment weights resulting from revisions in the assignment of device costs. The overall effect of these adjustments does not change the conversion factor announced in the November 2, 2001 final rule. The conversion factor remains $50.904.

Recalculation of the scalar changes the offset amounts that we published in Table 5 in the November 30, 2001 final rule. Certain APC rates increased as a result of the incorporation of 75 percent of the pass-through costs of devices eligible for pass-through payments. Those amounts were deducted from the pass-through payments for those devices, so that the increases to the APC rates were offset by the simultaneous reduction of the associated pass-through costs, as described in the November 30, 2001 final rule (66 FR 59904-59906). The recalculated offset amounts are listed in Table 1 below, which parallels Table 5 of the November 30, 2001 final rule (66 FR 59907). Column 3 shows the device costs already included in the rates for 25 APCs before we incorporated 75 percent of the pass-through device costs into the rates. The label “NA” in column 3 means that there were no device costs associated with the APC before incorporating 75 percent of pass-through device costs into the rates. In Table 1, the amounts in column 3 have not changed since the November 30, 2001 final rule. In Table 1, the amounts in column 5, which are the sum of columns 3 and 4, have changed to account for the corrections in column 4.

Table 1.—Offsets To Be Applied for Each APC That Contains Device Costs
APC | Description | Device costs (before fold-in) reflected in APC rate | Additional device costs folded into APC rate | Total offset for device costs
1 | 2 | 3 | 4 | 5
0032 | Insertion of Central Venous/Arterial Catheter | $73.79 | $279.97 | $353.76
0046 | Open/Percutaneous Treatment Fracture or Dislocation | NA | 100.29 | 100.29
0048 | Arthroplasty with Prosthesis | NA | 514.64 | 514.64
0057 | Bunion Procedures | NA | 162.89 | 162.89
0070 | Thoracentesis/Lavage Procedures | NA | 26.47 | 26.47
0080 | Diagnostic Cardiac Catheterization | 164.27 | 134.39 | 298.66
0081 | Non-Coronary Angioplasty or Atherectomy | 307.06 | 362.95 | 670.01
0082 | Coronary Atherectomy | 242.95 | 1,214.06 | 1,457.01
0083 | Coronary Angioplasty | 528.64 | 383.31 | 911.95
0085 | Level II Electrophysiologic Evaluation | NA | 1,578.03 | 1,578.03
0086 | Ablate Heart Dysrhythm Focus | NA | 1,320.96 | 1,320.96
0087 | Cardiac Electrophysiologic Recording/Mapping | NA | 1,980.16 | 1,980.16
0088 | Thrombectomy | 162.72 | 261.14 | 423.86
0089 | Insertion/Replacement of Permanent Pacemaker and Electrodes | 3,175.70 | 3,286.36 | 6,462.06
0090 | Insertion/Replacement of Pacemaker Pulse Generator | 2,921.06 | 2,123.20 | 5,044.26
0094 | Resuscitation and Cardioversion | NA | 19.34 | 19.34
0103 | Miscellaneous Vascular Procedures | NA | 207.18 | 207.18
0104 | Transcatheter Placement of Intracoronary Stents | 428.16 | 1,256.31 | 1,684.47
0106 | Insertion/Replacement/Repair of Pacemaker and/or Electrodes | 657.59 | 1,049.13 | 1,706.72
0107 | Insertion of Cardioverter-Defibrillator | 6,803.85 | 11,099.62 | 17,903.47
0108 | Insertion/Replacement/Repair of Cardioverter-Defibrillator Leads | 6,940.27 | 19,607.20 | 26,547.47
0111 | Blood Product Exchange | NA | 209.72 | 209.72
0115 | Cannula/Access Device Procedures | NA | 127.26 | 127.26
0117 | Chemotherapy Administration by Infusion Only | NA | 30.03 | 30.03
0118 | Chemotherapy Administration by Both Infusion and Other Technique | NA | 28.50 | 28.50
0119 | Implantation of Devices | NA | 3,348.98 | 3,348.98
0120 | Infusion Therapy Except Chemotherapy | NA | 35.12 | 35.12
0121 | Level I Tube Changes and Repositioning | NA | 6.10 | 6.10
0122 | Level II Tube Changes and Repositioning | 72.55 | 214.82 | 287.37
0124 | Revision of Implanted Infusion Pump | NA | 3,308.76 | 3,308.76
0144 | Diagnostic Anoscopy | NA | 128.28 | 128.28
0151 | Endoscopic Retrograde Cholangio-Pancreatography (ERCP) | 60.92 | 0.00 | 60.92
0152 | Percutaneous Biliary Endoscopic Procedures | 107.61 | 0.00 | 107.61
0153 | Peritoneal and Abdominal Procedures | NA | 41.23 | 41.23
0154 | Hernia/Hydrocele Procedures | 108.11 | 378.73 | 486.84
0161 | Level II Cystourethroscopy and other Genitourinary Procedures | NA | 11.20 | 11.20
0162 | Level III Cystourethroscopy and other Genitourinary Procedures | NA | 319.68 | 319.68
0163 | Level IV Cystourethroscopy and other Genitourinary Procedures | NA | 901.51 | 901.51
0179 | Urinary Incontinence Procedures | NA | 3,400.90 | 3,400.90
0182 | Insertion of Penile Prosthesis | 2,238.90 | 569.11 | 2,808.14
0202 | Level VIII Female Reproductive Proc | 505.32 | 1,233.41 | 1,738.73
0203 | Level V Nerve Injections | NA | 420.98 | 420.98
0207 | Level IV Nerve Injections | NA | 63.63 | 63.63
0222 | Implantation of Neurological Device | 4,458.57 | 9,599.99 | 14,058.56
0223 | Implantation of Pain Management Device | 421.33 | 3,330.14 | 3,751.47
0225 | Implantation of Neurostimulator Electrodes | 1,182.00 | 11,941.06 | 13,123.06
0226 | Implantation of Drug Infusion Reservoir | NA | 3,363.74 | 3,363.74
0227 | Implantation of Drug Infusion Device | 3,810.46 | 2,395.55 | 6,206.01
0229 | Transcatherter Placement of Intravascular Shunts | 1,074.41 | 842.97 | 1,917.38
0246 | Cataract Procedures with IOL Insert | 146.82 | 0.00 | 146.82
0259 | Level VI ENT Procedures | 12,407.52 | 3,836.13 | 16,243.65
0264 | Level II Miscellaneous Radiology Procedures | NA | 61.59 | 61.59
0312 | Radioelement Applications | NA | 5,897.22 | 5,897.22
0313 | Brachytherapy | NA | 998.23 | 998.23
0685 | Level III Needle Biopsy/Aspiration Except Bone Marrow | NA | 210.75 | 210.75
0686 | Level V Skin Repair | NA | 465.77 | 465.77
0687 | Revision/Removal of Neurostimulator Electrodes | NA | 1,444.65 | 1,444.65
0688 | Revision/Removal of Neurostimulator Pulse Generator Receiver | NA | 6,238.79 | 6,238.79
0692 | Electronic Analysis of Neurostimulator Pulse Generators | NA | 644.44 | 644.44

As noted above, the estimates of transitional pass-through payments for devices, and of total pass-through payments for all eligible items, have decreased because of the corrections of device costs associated with specific procedures. After we incorporated 75 percent of the estimated pass-through device costs into the APCs, the remaining estimate of total pass-through payments for CY 2002 is 1.20 billion, which results in a uniform reduction in pass-through payments for 2002 of 63.6 percent.

During the first quarter of CY 2002, payments to hospitals for outpatient services are based on the rates and Healthcare Common Procedure Coding System (HCPCS) codes that were in effect for CY 2001, and a uniform reduction of transitional pass-through payments does not apply. Hospitals have thus received the advantage of much higher pass-through payments during the first quarter of CY 2002 than they would have, had we proceeded with implementation of the revised CY 2002 rates and the requisite uniform reduction for services furnished on or after January 1, 2002.

We are making four revised addenda available. Revised Addendum A and Addendum D are printed at the end of this preamble. Addendum A shows the corrected relative weights and payment rates, as well as the national unadjusted copayment and minimum unadjusted copayment amounts that are effective April 1, 2002. Addendum D incorporates several corrections to the payment status indicator addendum that was published on November 30, 2001.

Revised Addendum B and Addendum C are available on our Web site at http://www.cms.hhs.gov. Addendum B shows payment rates, weights, APC assignment, and payment status by HCPCS code. Addendum C lists the HCPCS codes in each APC group.

On December 31, 2001, we published a final rule that delayed the effective date of the payment rates and the uniform reduction to the transitional pass-through payments under the OPPS announced in the November 30, 2001 final rule until no later than April 1, 2002. We also announced that payment under the OPPS would continue to be made under the payment rates in effect on December 31, 2001, and that we would not apply a uniform reduction to payments for transitional pass-through items. This final rule implements the revised payment rates in Addendum A effective for services furnished on or after April 1, 2002. Also, effective for services furnished on or after April 1, 2002, a uniform reduction of 63.6 percent applies to transitional pass-through payments made under the OPPS. In addition, effective for services furnished on or after April 1, 2002, the threshold for determining outlier payments is when service costs are 3.5 times greater than the applicable APC payment amount. Also, effective for services furnished on or after April 1, 2002, payment will be made for new 2002 HCPCS codes and modifiers that are payable under the OPPS.

B. Correction of Technical and Typographical Errors in the Preamble and the Regulations Text of the November 30, 2001 Final Rule

We are correcting the following typographical and technical errors in the preamble and regulations text of the November 30, 2001 final rule. As we have stated previously, these corrections do not involve any changes in the policies announced in that rule.

1. On page 59863, in column two, the heading “Level I Nerve Injections (to include Trigger Point, Joint, Other Injections, and Lower Complexity Nerve Blocks)” is corrected to read “Level VI Nerve Injections (APC 204) (to include Trigger Point, Joint, Other Injections, and Lower Complexity Nerve Blocks).”

2. On page 59863, in column two, the chart that will be under the revised heading (see item 1 above) “Level VI Nerve Injections (APC 204) (to include Trigger Point, Joint, Other Injections, and Lower Complexity Nerve Blocks)” is revised to read:

| Reassigned CPT Code from APC
27096 | (¹)
62270 | 0210
62272 | 0210
62273 | 0212
62310-62319 | 0212
¹ Currently packaged.

3. On page 59863, in column two, the heading “Level II Nerve Injections (to include Moderate Complexity Nerve Blocks and Epidurals):” is corrected to read “Level III Nerve Injections (APC 206) (to include Moderate Complexity Nerve Blocks and Epidurals):”.

4. On page 59863, in column two and continuing to the top of column three, the heading “Level III Nerve Injections (to include Moderately High Complexity Epidurals, Facet Blocks, and Disk Injections):” is corrected to read “Level IV Nerve Injections (APC 207) (to include Moderately High Complexity Epidurals, Facet Blocks, and Disk Injections):”.

5. On page 59863, in column three, the heading “Level IV Nerve Injections (to include High Complexity Lysis of Adhesions, Neurolytic Procedures, Removal of Implantable Pumps and Stimulators):” is corrected to read “Level V Nerve Injections (APC 203) (to include High Complexity Lysis of Adhesions, Neurolytic Procedures, Removal of Implantable Pumps and Stimulators):”.

6. On page 59868, in column two, the first and second complete sentences beginning at line five from the top of the page are corrected to read “We would note that payment for IMRT planning includes payment for the following CPT codes: 77300, 77336, 77370, 77280-77295, 77305-77321. The only CPT codes that may be billed in addition to 77301 (IMRT planning) are the CPT codes 77332-77334.”

7. On page 59870, in column one, the last sentence is corrected to read “According to our methodology for pricing new technology services, these services will be reassigned to APC 0714, New Technology—Level IX ($1250-$1500), which results in a payment rate of $1,375 with a status indicator of ‘S,’ indicating that the multiple procedure discount is not applied.”

8. On page 59883, in column two, on line 17 from the top of the page, “G0224,” is corrected to read “G0244.”

9. On page 59883, in column two, beginning at the bottom of the page and continuing to the top of column three, the list of acceptable diagnosis codes for chest pain is corrected to read as follows:

For Chest Pain:

411.1 Intermediate coronary syndrome

411.81 Coronary occlusion without myocardial infarction

411.0 Postmyocardial infarction syndrome

411.89 Other acute ischemic heart disease

413.0 Angina decubitus

413.1 Prinzmetal angina

413.9 Other and unspecified angina pectoris

786.05 Shortness of breath

786.50 Chest pain, unspecified

786.51 Precordial pain

786.52 Painful respiration

786.59 Other chest pain

10. On page 59883, in column three, the list of acceptable diagnosis codes for congestive heart failure is corrected to read as follows:

For Congestive Heart Failure:

391.8 Other acute rheumatic heart disease

398.91 Rheumatic heart failure (congestive)

402.01 Malignant hypertensive heart disease with congestive heart failure

402.11 Benign hypertensive heart disease with congestive heart failure

402.91 Unspecified hypertensive heart disease with congestive heart failure

404.01 Malignant hypertensive heart and renal disease with congestive heart failure

404.03 Malignant hypertensive heart and renal disease with congestive heart and renal failure

404.11 Benign hypertensive heart and renal disease with congestive heart failure

404.13 Benign hypertensive heart and renal disease with congestive heart and renal failure

404.91 Unspecified hypertensive heart and renal disease with congestive heart failure

404.93 Unspecified hypertensive heart and renal disease with congestive heart and renal failure

428.0 Congestive heart failure

428.1 Left heart failure

428.9 Heart failure, unspecified

11. On page 59883, in column three, the second-to-last sentence is corrected to read “For asthma, a peak expiratory flow rate (PEFR) (CPT code 94010), or pulse oximetry (CPT codes 94760 or 94761).”

12. We are also making revisions to our regulations under 42 CFR Part 419, specifically § 419.32 “Calculation of prospective payment rates for hospital outpatient services,” and § 419.62 “Transitional pass-through payments: General rules.” At §§ 419.32(b)(1)(iii) and 419.62(d), we are revising our language to specify that the provisions under these sections are applicable to a portion of CY 2002 and not necessarily the entire year for 2002.

C. Correction of Technical and Typographical Errors in Addenda A, B, C, and D

Addenda A, B, and D as published in the November 30, 2001 final rule contain a number of typographical and technical errors that do not involve any changes in the policies announced in that rule. Addenda A and D at the end of this document reflect the corrections of these errors. Corrected addenda B and C are available on our Web site at http://www.cms.hhs.gov.

1. Corrections to Addendum A

Table 2, Corrections to Addendum A of the November 30, 2001 final rule, shows the APC listings for which corrections are required. It provides the data as published in that final rule and the additions and corrections to these data.

BILLING CODE 4120-01-P

2. Corrections to Addendum B of the November 30, 2001 Final Rule

Table 3, Corrections to Addendum B of the November 30, 2001 final rule shows the APC assignments for which corrections are required. It provides the data as published in that final rule and the additions and corrections to these data.

BILLING CODE 4120-01-C

3. Corrections to Addendum D of the November 30, 2001 Final Rule

On page 60091, there are two corrections to Addendum D as published in the November 30, 2001 final rule.

a. Under the status column for Screening Mammography, “Lower of Charges or National Rate” is revised to read “Physician Fee Schedule.”

b. We are adding a status indicator that was inadvertently omitted. In the indicator column we are adding, where it should appear alphabetically, status indicator “D”, “Deleted Code” under the service column, and “Codes Are Deleted Effective with the Beginning of the Calendar Year” under the status column.

III. Waiver of Notice of Proposed Rulemaking

We ordinarily publish a notice of proposed rulemaking in the Federal Register and invite public comment on the proposed rule. The notice of proposed rulemaking includes a reference to the legal authority under which the rule is proposed, and the terms and substances of the proposed rule or a description of the subjects and issues involved. This procedure can be waived, however, if an agency finds good cause that a notice-and-comment procedure is impracticable, unnecessary, or contrary to the public interest and incorporates a statement of the finding and its reasons in the rule issued. The rates in this final rule incorporate the correction of errors that were identified in connection with the rates published in the November 30, 2001 final rule.

We find that it is in the general public interest to proceed with implementing the corrected rates without proposed rulemaking and public comment. The delay in implementing the 2002 rates was necessary to correct identified inadvertent technical errors and to allow us to review our data files to ensure that other errors could also be identified and corrected. As a matter of good public policy, we do not believe that the necessary delay in implementing the CY 2002 OPPS rates should result in continued uncertainty among hospitals, beneficiaries, and others regarding CY 2002 payment rates for OPPS services. The public is expecting the corrected OPPS update for CY 2002 to be made effective no later than April 1, 2002. Thus, there is an urgent need, effective for services furnished on or after April 1, 2002, to implement the corrected rate update and new 2002 HCPCS codes for Medicare payments under the OPPS. There is not sufficient time to provide notice of proposed rulemaking without further delaying the effective date of the rates. Therefore, we find that it is contrary to the public interest to continue to delay the effective date of the rates.

IV. Collection of Information Requirements

This document does not impose information collection and record-keeping requirements. Consequently, the Office of Management and Budget need not review it under the authority of the Paperwork Reduction Act of 1995.

V. Regulatory Impact Statement

We have examined the impacts of this rule as required by Executive Order 12866 (September 1993, Regulatory Planning and Review) and the Regulatory Flexibility Act (RFA) (September 19, 1980 Pub. L. 96-354). Executive Order 12866 directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more annually).

As discussed above in this preamble, this final rule corrects inadvertent technical errors in the November 30, 2001 final rule that implemented the CY 2002 payments for the hospital OPPS. We note that the November 30, 2001 final rule was not a major rule. As we also discussed above in the preamble, this final rule corrects the estimate of the transitional pass-through payments for CY 2002 and the resulting uniform reduction that is required for that year, the median costs for several APCs, the scalar used to adjust the relative payment weights for the effects of recalibration, and device cost assignment to device-related APCs. We also note that on November 2, 2001, we published a final rule that announced the updated conversion factor for payments under the OPPS (66 FR 55857).

The RFA requires agencies to analyze options for regulatory relief of small businesses. For purposes of the RFA, small entities include small businesses, nonprofit organizations, and government agencies. Most hospitals and most other providers and suppliers are small entities, either by nonprofit status or by having revenues between $5 million and $25 million (for details see the Small Business Administration's final rule that set forth size standards for health care industries at 65 FR 69432). Individuals and States are not included in the definition of a small entity.

In addition, section 1102(b) of the Act requires us to prepare a regulatory impact analysis for any final rule that may have a significant impact on the operations of a substantial number of small rural hospitals. Such an analysis must conform to the provisions of section 604 of the RFA. With the exception of hospitals located in certain New England counties, for purposes of section 1102(b) of the Act, we define a small rural hospital as a hospital with not more than 100 beds that is located outside of a Metropolitan Statistical Area (MSA) or New England County Metropolitan Area (NECMA). Section 601(g) of the Social Security Amendments of 1983 (Pub. L. 98-21) designated hospitals in certain New England counties as belonging to the adjacent NECMA. Thus, for purposes of the PPS, we classify these hospitals as urban hospitals. See the November 30, 2001 final rule for the regulatory impact analysis related to the updated CY 2002 hospital OPPS payments.

Section 202 of the Unfunded Mandates Reform Act of 1995 also requires that agencies assess anticipated costs and benefits before issuing any rule that may result in an expenditure in any 1 year by State, local, or tribal governments, in the aggregate, or by the private sector, of $110 million. This final rule will not have a significant economic effect on these governments or the private sector.

Executive Order 13132 establishes certain requirements that an agency must meet when it promulgates a final rule that imposes substantial direct compliance costs on State and local governments, preempts State law, or otherwise has Federalism implications. This final rule will not have a substantial effect on States or local governments.

Because the November 30, 2001 final rule includes the relevant impact analysis for the changes to the hospital OPPS, we are not preparing analyses for either the RFA or section 1102(b) of the Act.

In accordance with the provisions of Executive Order 12866, this regulation was reviewed by the Office of Management and Budget.

List of Subjects 42 CFR Part 419

Hospitals, Medicare, Reporting and recordkeeping requirements.

For the reasons set forth in the preamble, 42 CFR part 419 is corrected by making the following correcting amendments:

PART 419—PROSPECTIVE PAYMENT SYSTEM FOR HOSPITAL OUTPATIENT DEPARTMENT SERVICES

1. The authority citation continues to read as follows:

Authority: Secs. 1102, 1833(t), and 1871 of the Social Security Act (42 U.S.C. 1302, 1395l(t), and 1395hh).

§ 419.32 [Corrected]

2. In § 419.32, paragraph (b)(1)(iii) is corrected by removing the phrase “For calendar year 2002,” and adding in its place the phrase “For the portion of calendar year 2002 that is affected by these rules,”.

§ 419.62 [Corrected]

In § 419.62, paragraph (d) is corrected by removing the phrase “For CY 2002” and adding in its place “For the portion of CY 2002 affected by these rules,”.

(Catalog of Federal Domestic Assistance Program No. 93.773, Medicare—Hospital Insurance; and Program No. 93.774, Medicare—Supplementary Medical Insurance Program)

Dated: February 27, 2002.
Thomas A. Scully,
Administrator, Centers for Medicare & Medicaid Services.
Approved: February 27, 2002.
Tommy G. Thompson,
Secretary.

Addendum A.—List of Ambulatory Payment Classifications (APCs) With Status Indicators, Relative Weights, Payment Rates, and Copayment Amounts Calendar Year 2002
APC | Group title | Status indicator | Relative weight | Payment rate | National unadjusted copayment | Minimum unadjusted copayment
0001 | Photochemotherapy | S | 0.43 | $21.89 | $7.88 | $4.38
0002 | Fine needle Biopsy/Aspiration | T | 0.42 | $21.38 | $11.76 | $4.28
0003 | Bone Marrow Biopsy/Aspiration | T | 1.04 | $52.94 | $27.08 | $10.59
0004 | Level I Needle Biopsy/ Aspiration Except Bone Marrow | T | 2.48 | $126.24 | $32.57 | $25.25
0005 | Level II Needle Biopsy /Aspiration Except Bone Marrow | T | 4.05 | $206.16 | $90.71 | $41.23
0006 | Level I Incision & Drainage | T | 2.19 | $111.48 | $33.95 | $22.30
0007 | Level II Incision & Drainage | T | 6.79 | $345.64 | $72.03 | $69.13
0008 | Level III Incision and Drainage | T | 10.99 | $559.43 | $113.67 | $111.89
0009 | Nail Procedures | T | 0.63 | $32.07 | $8.34 | $6.41
0010 | Level I Destruction of Lesion | T | 0.66 | $33.60 | $9.86 | $6.72
0011 | Level II Destruction of Lesion | T | 1.48 | $75.34 | $27.88 | $15.07
0012 | Level I Debridement & Destruction | T | 0.66 | $33.60 | $9.18 | $6.72
0013 | Level II Debridement & Destruction | T | 1.37 | $69.74 | $17.66 | $13.95
0015 | Level IV Debridement & Destruction | T | 2.08 | $105.88 | $31.20 | $21.18
0016 | Level V Debridement & Destruction | T | 3.04 | $154.75 | $65.00 | $30.95
0017 | Level VI Debridement & Destruction | T | 9.73 | $495.30 | $227.84 | $99.06
0018 | Biopsy of Skin/Puncture of Lesion | T | 1.06 | $53.96 | $17.66 | $10.79
0019 | Level I Excision/ Biopsy | T | 4.24 | $215.83 | $78.91 | $43.17
0020 | Level II Excision/ Biopsy | T | 8.49 | $432.17 | $130.53 | $86.43
0021 | Level IV Excision/ Biopsy | T | 11.89 | $605.25 | $236.51 | $121.05
0022 | Level V Excision/ Biopsy | T | 13.99 | $712.15 | $292.94 | $142.43
0023 | Exploration Penetrating Wound | T | 2.09 | $106.39 | $40.37 | $21.28
0024 | Level I Skin Repair | T | 2.29 | $116.57 | $41.97 | $23.31
0025 | Level II Skin Repair | T | 3.41 | $173.58 | $65.57 | $34.72
0026 | Level III Skin Repair | T | 12.69 | $645.97 | $277.92 | $129.19
0027 | Level IV Skin Repair | T | 18.12 | $922.38 | $383.10 | $184.48
0028 | Level I Breast Surgery | T | 14.08 | $716.73 | $303.74 | $143.35
0029 | Level II Breast Surgery | T | 23.90 | $1,216.61 | $632.64 | $243.32
0030 | Level III Breast Surgery | T | 34.40 | $1,751.10 | $763.55 | $350.22
0032 | Insertion of Central Venous/Arterial Catheter | T | 12.71 | $646.99 |  | $129.40
0033 | Partial Hospitalization | P | 4.17 | $212.27 | $48.17 | $42.45
0035 | Placement of Arterial or Central Venous Catheter | T | 0.13 | $6.62 | $2.91 | $1.32
0041 | Level I Arthroscopy | T | 23.74 | $1,208.46 | $580.06 | $241.69
0042 | Level II Arthroscopy | T | 35.97 | $1,831.02 | $804.74 | $366.20
0043 | Closed Treatment Fracture Finger/Toe/Trunk | T | 4.07 | $207.18 |  | $41.44
0044 | Closed Treatment Fracture/Dislocation Except Finger/Toe/Trunk | T | 2.54 | $129.30 | $38.08 | $25.86
0045 | Bone/Joint Manipulation Under Anesthesia | T | 11.74 | $597.61 | $277.12 | $119.52
0046 | Open/Percutaneous Treatment Fracture or Dislocation | T | 27.86 | $1,418.19 | $535.76 | $283.64
0047 | Arthroplasty without Prosthesis | T | 26.51 | $1,349.47 | $537.03 | $269.89
0048 | Arthroplasty with Prosthesis | T | 43.44 | $2,211.27 | $725.94 | $442.25
0049 | Level I Musculoskeletal Procedures Except Hand and Foot | T | 15.93 | $810.90 | $356.95 | $162.18
0050 | Level II Musculoskeletal Procedures Except Hand and Foot | T | 20.75 | $1,056.26 | $507.15 | $211.25
0051 | Level III Musculoskeletal Procedures Except Hand and Foot | T | 28.73 | $1,462.47 | $675.24 | $292.49
0052 | Level IV Musculoskeletal Procedures Except Hand and Foot | T | 36.15 | $1,840.18 | $930.91 | $368.04
0053 | Level I Hand Musculoskeletal Procedures | T | 11.76 | $598.63 | $253.49 | $119.73
0054 | Level II Hand Musculoskeletal Procedures | T | 19.95 | $1,015.53 | $472.33 | $203.11
0055 | Level I Foot Musculoskeletal Procedures | T | 15.52 | $790.03 | $355.34 | $158.01
0056 | Level II Foot Musculoskeletal Procedures | T | 18.95 | $964.63 | $405.81 | $192.93
0057 | Bunion Procedures | T | 24.49 | $1,246.64 | $496.65 | $249.33
0058 | Level I Strapping and Cast Application | S | 1.28 | $65.16 | $19.27 | $13.03
0059 | Level II Strapping and Cast Application | S | 2.23 | $113.52 | $29.59 | $22.70
0060 | Manipulation Therapy | S | 0.23 | $11.71 |  | $2.34
0068 | CPAP Initiation | S | 3.04 | $154.75 | $85.11 | $30.95
0069 | Thoracoscopy | T | 23.72 | $1,207.44 | $591.64 | $241.49
0070 | Thoracentesis/Lavage Procedures | T | 4.61 | $234.67 | $79.60 | $46.93
0071 | Level I Endoscopy Upper Airway | T | 1.04 | $52.94 | $14.22 | $10.59
0072 | Level II Endoscopy Upper Airway | T | 1.22 | $62.10 | $34.16 | $12.42
0073 | Level III Endoscopy Upper Airway | T | 3.31 | $168.49 | $74.14 | $33.70
0074 | Level IV Endoscopy Upper Airway | T | 11.39 | $579.80 | $295.70 | $115.96
0075 | Level V Endoscopy Upper Airway | T | 17.52 | $891.84 | $445.92 | $178.37
0076 | Endoscopy Lower Airway | T | 7.61 | $387.38 | $189.82 | $77.48
0077 | Level I Pulmonary Treatment | S | 0.39 | $19.85 | $10.92 | $3.97
0078 | Level II Pulmonary Treatment | S | 0.87 | $44.29 | $19.04 | $8.86
0079 | Ventilation Initiation and Management | S | 0.60 | $30.54 | $16.80 | $6.11
0080 | Diagnostic Cardiac Catheterization | T | 34.93 | $1,778.08 | $838.92 | $355.62
0081 | Non-Coronary Angioplasty or Atherectomy | T | 29.42 | $1,497.60 | $710.91 | $299.52
0082 | Coronary Atherectomy | T | 92.53 | $4,710.15 | $1,351.74 | $942.03
0083 | Coronary Angioplasty | T | 59.84 | $3,046.10 | $794.30 | $609.22
0084 | Level I Electrophysiologic Evaluation | S | 6.90 | $351.24 | $115.91 | $70.25
0085 | Level II Electrophysiologic Evaluation | T | 58.28 | $2,966.69 | $654.48 | $593.34
0086 | Ablate Heart Dysrhythm Focus | T | 73.14 | $3,723.12 | $1,265.37 | $744.62
0087 | Cardiac Electrophysiologic Recording/Mapping | T | 52.77 | $2,686.20 |  | $537.24
0088 | Thrombectomy | T | 34.57 | $1,759.75 | $678.68 | $351.95
0089 | Insertion/Replacement of Permanent Pacemaker and Electrodes | T | 150.39 | $7,655.45 | $2,246.59 | $1,531.09
0090 | Insertion/Replacement of Pacemaker Pulse Generator | T | 116.11 | $5,910.46 | $2,133.88 | $1,182.09
0091 | Level I Vascular Ligation | T | 21.15 | $1,076.62 | $348.23 | $215.32
0092 | Level II Vascular Ligation | T | 20.02 | $1,019.10 | $505.37 | $203.82
0093 | Vascular Repair/Fistula Construction | T | 14.24 | $724.87 | $277.34 | $144.97
0094 | Resuscitation and Cardioversion | S | 6.12 | $311.53 | $105.29 | $62.31
0095 | Cardiac Rehabilitation | S | 0.62 | $31.56 | $16.73 | $6.31
0096 | Non-Invasive Vascular Studies | S | 1.72 | $87.55 | $48.15 | $17.51
0097 | Cardiac and Ambulatory Blood Pressure Monitoring | X | 0.85 | $43.27 | $23.80 | $8.65
0098 | Injection of Sclerosing Solution | T | 1.25 | $63.63 | $20.88 | $12.73
0099 | Electrocardiograms | S | 0.36 | $18.33 | $10.08 | $3.67
0100 | Stress Tests and Continuous ECG | X | 1.48 | $75.34 | $41.44 | $15.07
0101 | Tilt Table Evaluation | S | 3.76 | $191.40 | $105.27 | $38.28
0103 | Miscellaneous Vascular Procedures | T | 16.04 | $816.50 | $295.70 | $163.30
0104 | Transcatheter Placement of Intracoronary Stents | T | 96.97 | $4,936.16 |  | $987.23
0105 | Revision/Removal of Pacemakers, AICD, or Vascular | T | 14.85 | $755.92 | $370.40 | $151.18
0106 | Insertion/Replacement/Repair of Pacemaker and/or Electrodes | T | 36.85 | $1,875.81 | $503.07 | $375.16
0107 | Insertion of Cardioverter-Defibrillator | T | 381.66 | $19,428.02 | $4,224.27 | $3,885.60
0108 | Insertion/Replacement/Repair of Cardioverter-Defibrillator Leads | T | 576.78 | $29,360.41 |  | $5,872.08
0109 | Removal of Implanted Devices | T | 6.30 | $320.70 | $131.49 | $64.14
0110 | Transfusion | S | 5.34 | $271.83 | $114.17 | $54.37
0111 | Blood Product Exchange | S | 21.21 | $1,079.67 | $300.74 | $215.93
0112 | Apheresis, Photopheresis, and Plasmapheresis | S | 36.46 | $1,855.96 | $612.47 | $371.19
0113 | Excision Lymphatic System | T | 15.62 | $795.12 | $326.55 | $159.02
0114 | Thyroid/Lymphadenectomy Procedures | T | 29.46 | $1,499.63 | $493.78 | $299.93
0115 | Cannula/Access Device Procedures | T | 21.47 | $1,092.91 | $506.74 | $218.58
0116 | Chemotherapy Administration by Other Technique Except Infusion | S | 0.91 | $46.32 |  | $9.26
0117 | Chemotherapy Administration by Infusion Only | S | 4.03 | $205.14 | $52.69 | $41.03
0118 | Chemotherapy Administration by Both Infusion and Other Technique | S | 4.22 | $214.81 | $72.03 | $42.96
0119 | Implantation of Devices | T | 80.14 | $4,079.45 |  | $815.89
0120 | Infusion Therapy Except Chemotherapy | T | 3.10 | $157.80 | $42.67 | $31.56
0121 | Level I Tube changes and Repositioning | T | 2.56 | $130.31 | $52.53 | $26.06
0122 | Level II Tube changes and Repositioning | T | 9.94 | $505.99 | $114.93 | $101.20
0123 | Bone Marrow Harvesting and Bone Marrow/Stem Cell Transplant | S | 8.62 | $438.79 |  | $87.76
0124 | Revision of Implanted Infusion Pump | T | 89.58 | $4,559.98 |  | $912.00
0125 | Refilling of Infusion Pump | T | 3.01 | $153.22 |  | $30.64
0130 | Level I Laparoscopy | T | 26.06 | $1,326.56 | $659.53 | $265.31
0131 | Level II Laparoscopy | T | 37.85 | $1,926.72 | $1,001.89 | $385.34
0132 | Level III Laparoscopy | T | 56.38 | $2,869.97 | $1,239.22 | $573.99
0140 | Esophageal Dilation without Endoscopy | T | 5.68 | $289.13 | $107.24 | $57.83
0141 | Upper GI Procedures | T | 7.25 | $369.05 | $184.67 | $73.81
0142 | Small Intestine Endoscopy | T | 6.98 | $355.31 | $152.78 | $71.06
0143 | Lower GI Endoscopy | T | 7.31 | $372.11 | $186.06 | $74.42
0144 | Diagnostic Anoscopy | T | 4.46 | $227.03 | $49.32 | $45.41
0145 | Therapeutic Anoscopy | T | 10.88 | $553.84 | $179.39 | $110.77
0146 | Level I Sigmoidoscopy | T | 2.75 | $139.99 | $64.40 | $28.00
0147 | Level II Sigmoidoscopy | T | 5.74 | $292.19 | $137.33 | $58.44
0148 | Level I Anal/Rectal Procedure | T | 2.41 | $122.68 | $43.59 | $24.54
0149 | Level III Anal/Rectal Procedure | T | 13.61 | $692.80 | $293.06 | $138.56
0150 | Level IV Anal/Rectal Procedure | T | 18.19 | $925.94 | $437.12 | $185.19
0151 | Endoscopic Retrograde Cholangio-Pancreatography (ERCP) | T | 15.39 | $783.41 | $245.46 | $156.68
0152 | Percutaneous Biliary Endoscopic Procedures | T | 16.23 | $826.17 | $207.38 | $165.23
0153 | Peritoneal and Abdominal Procedures | T | 23.70 | $1,206.42 | $496.31 | $241.28
0154 | Hernia/Hydrocele Procedures | T | 31.58 | $1,607.55 | $556.98 | $321.51
0155 | Level II Anal/Rectal Procedure | T | 5.30 | $269.79 | $99.82 | $53.96
0156 | Level II Urinary and Anal Procedures | T | 2.46 | $125.22 | $37.57 | $25.04
0157 | Colorectal Cancer Screening: Barium Enema | S | 1.99 | $101.30 | $22.19 | $20.26
0158 | Colorectal Cancer Screening: Colonoscopy | T | 6.59 | $335.46 | $83.87 | $67.09
0159 | Colorectal Cancer Screening: Flexible Sigmoidoscopy | S | 2.34 | $119.12 | $29.78 | $23.82
0160 | Level I Cystourethroscopy and other Genitourinary Procedures | T | 5.16 | $262.66 | $105.06 | $52.53
0161 | Level II Cystourethroscopy and other Genitourinary Procedures | T | 13.80 | $702.48 | $249.36 | $140.50
0162 | Level III Cystourethroscopy and other Genitourinary Procedures | T | 25.23 | $1,284.31 | $427.49 | $256.86
0163 | Level IV Cystourethroscopy and other Genitourinary Procedures | T | 40.63 | $2,068.23 | $792.58 | $413.65
0164 | Level I Urinary and Anal Procedures | T | 1.02 | $51.92 | $15.58 | $10.38
0165 | Level III Urinary and Anal Procedures | T | 5.25 | $267.25 | $91.76 | $53.45
0166 | Level I Urethral Procedures | T | 12.27 | $624.59 | $218.73 | $124.92
0167 | Level II Urethral Procedures | T | 22.41 | $1,140.76 | $555.84 | $228.15
0168 | Level III Urethral Procedures | T | 18.53 | $943.25 | $405.60 | $188.65
0169 | Lithotripsy | T | 39.85 | $2,028.52 | $1,115.69 | $405.70
0170 | Dialysis for Other Than ESRD Patients | S | 0.29 | $14.76 | $3.25 | $2.95
0179 | Urinary Incontinence Procedures | T | 140.14 | $7,133.69 | $3,067.48 | $1,426.74
0180 | Circumcision | T | 15.11 | $769.16 | $304.87 | $153.83
0181 | Penile Procedures | T | 22.21 | $1,130.58 | $621.82 | $226.12
0182 | Insertion of Penile Prosthesis | T | 88.04 | $4,481.59 | $1,492.28 | $896.32
0183 | Testes/Epididymis Procedures | T | 18.97 | $965.65 | $448.94 | $193.13
0184 | Prostate Biopsy | T | 4.86 | $247.39 | $123.70 | $49.48
0187 | Miscellaneous Placement/Repositioning | X | 4.24 | $215.83 | $94.96 | $43.17
0188 | Level II Female Reproductive Proc | T | 0.81 | $41.23 | $11.95 | $8.25
0189 | Level III Female Reproductive Proc | T | 1.26 | $64.14 | $18.60 | $12.83
0190 | Surgical Hysteroscopy | T | 17.01 | $865.88 | $424.28 | $173.18
0191 | Level I Female Reproductive Proc | T | 0.23 | $11.71 | $3.40 | $2.34
0192 | Level IV Female Reproductive Proc | T | 2.52 | $128.28 | $35.33 | $25.66
0193 | Level V Female Reproductive Proc | T | 11.23 | $571.65 | $171.13 | $114.33
0194 | Level VI Female Reproductive Proc | T | 15.95 | $811.92 | $397.84 | $162.38
0195 | Level VII Female Reproductive Proc | T | 20.74 | $1,055.75 | $483.80 | $211.15
0196 | Dilation and Curettage | T | 13.56 | $690.26 | $338.23 | $138.05
0197 | Infertility Procedures | T | 2.41 | $122.68 | $49.55 | $24.54
0198 | Pregnancy and Neonatal Care Procedures | T | 1.32 | $67.19 | $32.92 | $13.44
0199 | Vaginal Delivery | T | 5.12 | $260.63 | $72.98 | $52.13
0200 | Therapeutic Abortion | T | 11.41 | $580.81 | $307.83 | $116.16
0201 | Spontaneous Abortion | T | 14.42 | $734.04 | $329.65 | $146.81
0202 | Level VIII Female Reproductive Proc | T | 63.90 | $3,252.77 | $1,593.85 | $650.55
0203 | Level V Nerve Injections | T | 15.88 | $808.36 | $363.78 | $161.67
0204 | Level VI Nerve Injections | T | 2.25 | $114.53 | $43.52 | $22.91
0206 | Level III Nerve Injections | T | 3.62 | $184.27 | $75.55 | $36.85
0207 | Level IV Nerve Injections | T | 5.40 | $274.88 | $123.69 | $54.98
0208 | Laminotomies and Laminectomies | T | 29.29 | $1,490.98 |  | $298.20
0209 | Extended EEG Studies and Sleep Studies, Level II | S | 10.60 | $539.58 | $280.58 | $107.92
0212 | Level II Nervous System Injections | T | 3.79 | $192.93 | $88.78 | $38.59
0213 | Extended EEG Studies and Sleep Studies, Level I | S | 2.66 | $135.40 | $70.41 | $27.08
0214 | Electroencephalogram | S | 2.11 | $107.41 | $53.71 | $21.48
0215 | Level I Nerve and Muscle Tests | S | 0.66 | $33.60 | $17.47 | $6.72
0216 | Level III Nerve and Muscle Tests | S | 2.63 | $133.88 | $60.25 | $26.78
0218 | Level II Nerve and Muscle Tests | S | 1.04 | $52.94 | $23.82 | $10.59
0220 | Level I Nerve Procedures | T | 13.68 | $696.37 | $327.29 | $139.27
0221 | Level II Nerve Procedures | T | 21.55 | $1,096.98 | $463.62 | $219.40
0222 | Implantation of Neurological Device | T | 304.29 | $15,489.58 |  | $3,097.92
0223 | Implantation of Pain Management Device | T | 75.83 | $3,860.05 |  | $772.01
0224 | Implantation of Reservoir/Pump/Shunt | T | 28.65 | $1,458.40 | $453.41 | $291.68
0225 | Implantation of Neurostimulator Electrodes | T | 269.11 | $13,698.78 |  | $2,739.76
0226 | Implantation of Drug Infusion Reservoir | T | 76.24 | $3,880.92 |  | $776.18
0227 | Implantation of Drug Infusion Device | T | 140.36 | $7,144.89 |  | $1,428.98
0228 | Creation of Lumbar Subarachnoid Shunt | T | 54.08 | $2,752.89 | $696.46 | $550.58
0229 | Transcatherter Placement of Intravascular Shunts | T | 76.09 | $3,873.29 | $996.86 | $774.66
0230 | Level I Eye Tests & Treatments | S | 0.62 | $31.56 | $14.52 | $6.31
0231 | Level III Eye Tests & Treatments | S | 2.05 | $104.35 | $46.96 | $20.87
0232 | Level I Anterior Segment Eye Procedures | T | 3.52 | $179.18 | $78.84 | $35.84
0233 | Level II Anterior Segment Eye Procedures | T | 10.90 | $554.85 | $266.33 | $110.97
0234 | Level III Anterior Segment Eye Procedures | T | 19.20 | $977.36 | $469.13 | $195.47
0235 | Level I Posterior Segment Eye Procedures | T | 5.60 | $285.06 | $78.91 | $57.01
0236 | Level II Posterior Segment Eye Procedures | T | 16.30 | $829.74 |  | $165.95
0237 | Level III Posterior Segment Eye Procedures | T | 32.16 | $1,637.07 | $818.54 | $327.41
0238 | Level I Repair and Plastic Eye Procedures | T | 3.02 | $153.73 | $58.96 | $30.75
0239 | Level II Repair and Plastic Eye Procedures | T | 5.84 | $297.28 | $115.94 | $59.46
0240 | Level III Repair and Plastic Eye Procedures | T | 13.91 | $708.07 | $315.31 | $141.61
0241 | Level IV Repair and Plastic Eye Procedures | T | 17.84 | $908.13 | $384.47 | $181.63
0242 | Level V Repair and Plastic Eye Procedures | T | 24.26 | $1,234.93 | $597.36 | $246.99
0243 | Strabismus/Muscle Procedures | T | 17.81 | $906.60 | $431.39 | $181.32
0244 | Corneal Transplant | T | 38.69 | $1,969.48 | $851.42 | $393.90
0245 | Level I Cataract Procedures without IOL Insert | T | 10.50 | $534.49 | $251.21 | $106.90
0246 | Cataract Procedures with IOL Insert | T | 20.73 | $1,055.24 | $495.96 | $211.05
0247 | Laser Eye Procedures Except Retinal | T | 4.05 | $206.16 | $94.83 | $41.23
0248 | Laser Retinal Procedures | T | 4.35 | $221.43 | $94.05 | $44.29
0249 | Level II Cataract Procedures without IOL Insert | T | 21.93 | $1,116.32 | $524.67 | $223.26
0250 | Nasal Cauterization/Packing | T | 2.11 | $107.41 | $37.59 | $21.48
0251 | Level I ENT Procedures | T | 2.44 | $124.21 | $27.99 | $24.84
0252 | Level II ENT Procedures | T | 5.99 | $304.91 | $114.24 | $60.98
0253 | Level III ENT Procedures | T | 12.40 | $631.21 | $284.00 | $126.24
0254 | Level IV ENT Procedures | T | 17.47 | $889.29 | $272.41 | $177.86
0256 | Level V ENT Procedures | T | 26.76 | $1,362.19 | $623.05 | $272.44
0258 | Tonsil and Adenoid Procedures | T | 17.53 | $892.35 | $437.25 | $178.47
0259 | Level VI ENT Procedures | T | 378.75 | $19,279.89 | $9,447.14 | $3,855.98
0260 | Level I Plain Film Except Teeth | X | 0.70 | $35.63 | $19.60 | $7.13
0261 | Level II Plain Film Except Teeth Including Bone Density Measurement | X | 1.22 | $62.10 | $34.15 | $12.42
0262 | Plain Film of Teeth | X | 0.65 | $33.09 | $10.90 | $6.62
0263 | Level I Miscellaneous Radiology Procedures | X | 1.62 | $82.46 | $44.53 | $16.49
0264 | Level II Miscellaneous Radiology Procedures | X | 3.74 | $190.38 | $104.71 | $38.08
0265 | Level I Diagnostic Ultrasound Except Vascular | S | 0.95 | $48.36 | $26.60 | $9.67
0266 | Level II Diagnostic Ultrasound Except Vascular | S | 1.55 | $78.90 | $43.40 | $15.78
0267 | Vascular Ultrasound | S | 2.34 | $119.12 | $65.52 | $23.82
0269 | Level I Echocardiogram Except Transesophageal | S | 3.87 | $197.00 | $102.44 | $39.40
0270 | Transesophageal Echocardiogram | S | 5.34 | $271.83 | $146.79 | $54.37
0271 | Mammography | S | 0.60 | $30.54 | $16.80 | $6.11
0272 | Level I Fluoroscopy | X | 1.38 | $70.25 | $38.64 | $14.05
0274 | Myelography | S | 5.27 | $268.26 | $128.12 | $53.65
0275 | Arthrography | S | 2.61 | $132.86 | $69.09 | $26.57
0276 | Level I Digestive Radiology | S | 1.49 | $75.85 | $41.72 | $15.17
0277 | Level II Digestive Radiology | S | 2.16 | $109.95 | $60.47 | $21.99
0278 | Diagnostic Urography | S | 2.36 | $120.13 | $66.07 | $24.03
0279 | Level I Angiography and Venography except Extremity | S | 7.77 | $395.52 | $174.57 | $79.10
0280 | Level II Angiography and Venography except Extremity | S | 13.63 | $693.82 | $353.85 | $138.76
0281 | Venography of Extremity | S | 4.35 | $221.43 | $115.16 | $44.29
0282 | Miscellaneous Computerized Axial Tomography | S | 1.59 | $80.94 | $44.51 | $16.19
0283 | Computerized Axial Tomography with Contrast Material | S | 4.51 | $229.58 | $126.27 | $45.92
0284 | Magnetic Resonance Imaging and Magnetic Resonance Angiography with Contrast Material | S | 7.18 | $365.49 | $201.02 | $73.10
0285 | Positron Emission Tomography (PET) | S | 18.83 | $958.52 | $415.21 | $191.70
0286 | Myocardial Scans | S | 5.43 | $276.41 | $152.03 | $55.28
0287 | Complex Venography | S | 4.09 | $208.20 | $114.51 | $41.64
0288 | CT, Bone Density | S | 1.18 | $60.07 | $33.03 | $12.01
0289 | Needle Localization for Breast Biopsy | X | 1.63 | $82.97 | $44.80 | $16.59
0290 | Standard Non-Imaging Nuclear Medicine | S | 1.76 | $89.59 | $49.27 | $17.92
0291 | Level I Diagnostic Nuclear Medicine Excluding Myocardial Scans | S | 3.52 | $179.18 | $90.20 | $35.84
0292 | Level II Diagnostic Nuclear Medicine Excluding Myocardial Scans | S | 4.22 | $214.81 | $118.15 | $42.96
0294 | Level I Therapeutic Nuclear Medicine | S | 5.04 | $256.56 | $141.11 | $51.31
0295 | Level II Therapeutic Nuclear Medicine | S | 12.17 | $619.50 | $340.73 | $123.90
0296 | Level I Therapeutic Radiologic Procedures | S | 3.41 | $173.58 | $95.47 | $34.72
0297 | Level II Therapeutic Radiologic Procedures | S | 7.11 | $361.93 | $172.51 | $72.39
0299 | Miscellaneous Radiation Treatment | S | 0.21 | $10.69 | $5.66 | $2.14
0300 | Level I Radiation Therapy | S | 2.08 | $105.88 | $47.72 | $21.18
0301 | Level II Radiation Therapy | S | 5.18 | $263.68 |  | $52.74
0302 | Level III Radiation Therapy | S | 11.23 | $571.65 | $216.55 | $114.33
0303 | Treatment Device Construction | X | 3.01 | $153.22 | $69.28 | $30.64
0304 | Level I Therapeutic Radiation Treatment Preparation | X | 1.63 | $82.97 | $41.52 | $16.59
0305 | Level II Therapeutic Radiation Treatment Preparation | X | 3.74 | $190.38 | $91.38 | $38.08
0310 | Level III Therapeutic Radiation Treatment Preparation | X | 14.59 | $742.69 | $339.05 | $148.54
0312 | Radioelement Applications | S | 124.64 | $6,344.67 |  | $1,268.93
0313 | Brachytherapy | S | 35.74 | $1,819.31 |  | $363.86
0314 | Hyperthermic Therapies | S | 3.92 | $199.54 | $101.77 | $39.91
0320 | Electroconvulsive Therapy | S | 3.90 | $198.53 | $80.06 | $39.71
0321 | Biofeedback and Other Training | S | 0.93 | $47.34 | $21.78 | $9.47
0322 | Brief Individual Psychotherapy | S | 1.16 | $59.05 | $12.40 | $11.81
0323 | Extended Individual Psychotherapy | S | 1.74 | $88.57 | $21.26 | $17.71
0324 | Family Psychotherapy | S | 2.71 | $137.95 |  | $27.59
0325 | Group Psychotherapy | S | 1.38 | $70.25 | $18.27 | $14.05
0330 | Dental Procedures | S | 11.04 | $561.98 |  | $112.40
0332 | Computerized Axial Tomography and Computerized Angiography without Contrast Material | S | 3.26 | $165.95 | $91.27 | $33.19
0333 | Computerized Axial Tomography and Computerized Angio w/o Contrast Material followed by Contrast | S | 5.25 | $267.25 | $146.98 | $53.45
0335 | Magnetic Resonance Imaging, Miscellaneous | S | 5.41 | $275.39 | $151.46 | $55.08
0336 | Magnetic Resonance Imaging and Magnetic Resonance Angiography without Contrast | S | 6.32 | $321.71 | $176.94 | $64.34
0337 | MRI and Magnetic Resonance Angiography without Contrast Material followed by Contrast Material | S | 8.60 | $437.77 | $240.77 | $87.55
0339 | Observation | S | 6.90 | $351.24 |  | $70.25
0340 | Minor Ancillary Procedures | X | 0.85 | $43.27 | $10.82 | $8.65
0341 | Skin Tests and Miscellaneous Red Blood Cell Tests | X | 0.11 | $5.60 | $3.08 | $1.12
0342 | Level I Pathology | X | 0.21 | $10.69 | $5.88 | $2.14
0343 | Level II Pathology | X | 0.39 | $19.85 | $10.72 | $3.97
0344 | Level III Pathology | X | 0.56 | $28.51 | $15.68 | $5.70
0345 | Level I Transfusion Laboratory Procedures | X | 0.27 | $13.74 | $5.37 | $2.75
0346 | Level II Transfusion Laboratory Procedures | X | 0.77 | $39.20 | $12.03 | $7.84
0347 | Level III Transfusion Laboratory Procedures | X | 1.57 | $79.92 | $20.13 | $15.98
0348 | Fertility Laboratory Procedures | X | 0.77 | $39.20 |  | $7.84
0352 | Level I Injections | X | 0.41 | $20.87 |  | $4.17
0353 | Level II Allergy Injections | X | 0.25 | $12.73 | $2.92 | $2.55
0354 | Administration of Influenza/Pneumonia Vaccine | K | 0.11 | $5.60 |  |
0355 | Level I Immunizations | K | 0.19 | $9.67 | $5.05 | $1.93
0356 | Level II Immunizations | K | 1.12 | $57.01 |  | $11.40
0359 | Level II Injections | X | 1.80 | $91.63 |  | $18.33
0360 | Level I Alimentary Tests | X | 1.36 | $69.23 | $34.62 | $13.85
0361 | Level II Alimentary Tests | X | 3.27 | $166.46 | $83.23 | $33.29
0362 | Fitting of Vision Aids | X | 0.87 | $44.29 | $9.63 | $8.86
0363 | Otorhinolaryngologic Function Tests | X | 1.74 | $88.57 | $32.77 | $17.71
0364 | Level I Audiometry | X | 0.58 | $29.52 | $11.51 | $5.90
0365 | Level II Audiometry | X | 1.32 | $67.19 | $20.16 | $13.44
0367 | Level I Pulmonary Test | X | 0.70 | $35.63 | $17.82 | $7.13
0368 | Level II Pulmonary Tests | X | 1.48 | $75.34 | $38.42 | $15.07
0369 | Level III Pulmonary Tests | X | 3.51 | $178.67 | $58.50 | $35.73
0370 | Allergy Tests | X | 0.81 | $41.23 | $11.81 | $8.25
0371 | Level I Allergy Injections | X | 0.70 | $35.63 |  | $7.13
0372 | Therapeutic Phlebotomy | X | 0.53 | $26.98 | $10.09 | $5.40
0373 | Neuropsychological Testing | X | 1.01 | $51.41 | $14.39 | $10.28
0374 | Monitoring Psychiatric Drugs | X | 0.89 | $45.30 | $9.97 | $9.06
0600 | Low Level Clinic Visits | V | 0.87 | $44.29 |  | $8.86
0601 | Mid Level Clinic Visits | V | 0.95 | $48.36 |  | $9.67
0602 | High Level Clinic Visits | V | 1.38 | $70.25 |  | $14.05
0610 | Low Level Emergency Visits | V | 1.24 | $63.12 | $19.57 | $12.62
0611 | Mid Level Emergency Visits | V | 2.16 | $109.95 | $36.47 | $21.99
0612 | High Level Emergency Visits | V | 3.51 | $178.67 | $54.14 | $35.73
0620 | Critical Care | S | 8.45 | $430.14 | $150.55 | $86.03
0685 | Level III Needle Biopsy/Aspiration Except Bone Marrow | T | 9.21 | $468.83 | $206.28 | $93.77
0686 | Level V Skin Repair | T | 24.15 | $1,229.33 | $565.49 | $245.87
0687 | Revision/Removal of Neurostimulator Electrodes | T | 42.58 | $2,167.49 | $997.05 | $433.50
0688 | Revision/Removal of Neurostimulator Pulse Generator Receiver | T | 146.12 | $7,438.09 | $3,644.66 | $1,487.62
0689 | Electronic Analysis of Cardioverter-defibrillators | S | 0.43 | $21.89 | $12.03 | $4.38
0690 | Electronic Analysis of Pacemakers and other Cardiac Devices | S | 0.38 | $19.34 | $10.63 | $3.87
0691 | Electronic Analysis of Programmable Shunts/Pumps | S | 3.18 | $161.87 | $89.02 | $32.37
0692 | Electronic Analysis of Neurostimulator Pulse Generators | S | 14.43 | $734.54 | $403.99 | $146.91
0693 | Level II Breast Reconstruction | T | 32.00 | $1,628.93 | $798.17 | $325.79
0694 | Level III Excision/Biopsy | T | 4.01 | $204.13 | $81.65 | $40.83
0695 | Level VII Debridement & Destruction | T | 15.87 | $807.85 | $266.59 | $161.57
0697 | Level II Echocardiogram Except Transesophageal | S | 2.09 | $106.39 | $55.32 | $21.28
0698 | Level II Eye Tests & Treatments | S | 1.04 | $52.94 | $20.64 | $10.59
0699 | Level IV Eye Tests & Treatment | T | 6.49 | $330.37 | $148.66 | $66.07
0701 | SR 89 chloride, per mCi | G |  | $963.42 |  | $137.92
0702 | SM 153 lexidronam, 50 mCi | G |  | $1,020.00 |  | $146.02
0704 | IN 111 Satumomab pendetide per dose | G |  | $1,591.25 |  | $227.80
0705 | TC 99M tetrofosmin, per dose | G |  | $114.00 |  | $16.32
0706 | New Technology—Level I ($0-$50) | S |  | $25.00 |  | $5.00
0707 | New Technology—Level II ($50-$100) | S |  | $75.00 |  | $15.00
0708 | New Technology—Level III ($100-$200) | S |  | $150.00 |  | $30.00
0709 | New Technology—Level IV ($200-$300) | S |  | $250.00 |  | $50.00
0710 | New Technology—Level V ($300-$500) | S |  | $400.00 |  | $80.00
0711 | New Technology—Level VI ($500-$750) | S |  | $625.00 |  | $125.00
0712 | New Technology—Level VII ($750-$1000) | S |  | $875.00 |  | $175.00
0713 | New Technology—Level VIII ($1000-$1250) | S |  | $1,125.00 |  | $225.00
0714 | New Technology—Level IX ($1250-$1500) | S |  | $1,375.00 |  | $275.00
0715 | New Technology—Level X ($1500-$1750) | S |  | $1,625.00 |  | $325.00
0716 | New Technology—Level XI ($1750-$2000) | S |  | $1,875.00 |  | $375.00
0717 | New Technology—Level XII ($2000-$2500) | S |  | $2,250.00 |  | $450.00
0718 | New Technology—Level XIII ($2500-$3000) | S |  | $2,750.00 |  | $550.00
0719 | New Technology_Level XIV ($3000-$3500) | S |  | $3,250.00 |  | $650.00
0720 | New Technology—Level XV ($3500-$5000) | S |  | $4,250.00 |  | $850.00
0721 | New Technology—Level XVI ($5000-$6000) | S |  | $5,500.00 |  | $1,100.00
0725 | Leucovorin calcium inj, 50 mg | G |  | $4.15 |  | $0.38
0726 | Dexrazoxane hcl injection, 250 mg | G |  | $194.52 |  | $24.98
0727 | Etidronate disodium inj 300 mg | G |  | $63.65 |  | $9.11
0728 | Filgrastim 300 mcg injection | G |  | $179.08 |  | $23.00
0730 | Pamidronate disodium , 30 mg | G |  | $265.87 |  | $38.06
0731 | Sargramostim injection 50 mcg | G |  | $29.06 |  | $4.16
0732 | Mesna injection 200 mg | G |  | $36.48 |  | $3.30
0733 | Non esrd epoetin alpha inj, 1000 u | G |  | $12.26 |  | $1.57
0734 | Darepoetin alfa, 1 MCG | G |  | $4.74 |  | $0.68
0750 | Dolasetron mesylate, 10 mg | G |  | $16.45 |  | $2.11
0754 | Metoclopramide hcl injection up to 10 mg | G |  | $1.17 |  | $0.11
0755 | Thiethylperazine maleate inj up to 10 mg | G |  | $4.60 |  | $0.66
0762 | Dronabinol 2.5mg oral | G |  | $3.28 |  | $0.42
0763 | Dolasetron mesylate oral, 100 mg | G |  | $69.64 |  | $8.94
0764 | Granisetron hcl injection 10 mcg | G |  | $18.54 |  | $2.65
0765 | Granisetron hcl 1 mg oral | G |  | $44.69 |  | $6.40
0768 | Ondansetron hcl injection 1 mg | G |  | $6.09 |  | $0.78
0769 | Ondansetron hcl 8mg oral | G |  | $26.41 |  | $3.39
0800 | Leuprolide acetate, 3.75 mg | G |  | $93.47 |  | $12.00
0801 | Cyclophosphamide oral 25 mg | G |  | $2.03 |  | $0.18
0802 | Etoposide oral 50 mg | G |  | $52.43 |  | $6.73
0803 | Melphalan oral 2 mg | G |  | $2.29 |  | $0.33
0807 | Aldesleukin/single use vial | G |  | $672.60 |  | $96.29
0809 | Bcg live intravesical vac | G |  | $166.49 |  | $21.38
0810 | Goserelin acetate implant 3.6 mg | G |  | $446.49 |  | $63.92
0811 | Carboplatin injection 50 mg | G |  | $114.46 |  | $16.39
0812 | Carmus bischl nitro inj 100 mg | G |  | $117.84 |  | $16.87
0813 | Cisplatin 10 mg injection | G |  | $42.18 |  | $3.82
0814 | Asparaginase injection 10,000 u | G |  | $62.61 |  | $8.96
0815 | Cyclophosphamide 100 mg inj | G |  | $5.82 |  | $0.75
0816 | Cyclophosphamide lyophilized 100 mg | G |  | $4.89 |  | $0.63
0817 | Cytarabine hcl 100 mg inj | G |  | $6.10 |  | $0.55
0818 | Dactinomycin 0.5 mg | G |  | $13.87 |  | $1.99
0819 | Dacarbazine 100 mg inj | G |  | $12.68 |  | $1.15
0820 | Daunorubicin 10 mg | G |  | $76.62 |  | $6.94
0821 | Daunorubicin citrate liposom 10 mg | G |  | $64.60 |  | $9.25
0822 | Diethylstilbestrol injection 250 mg | G |  | $14.41 |  | $1.30
0823 | Docetaxel, 20 mg | G |  | $297.83 |  | $42.64
0824 | Etoposide 10 mg inj | G |  | $10.45 |  | $0.95
0826 | Methotrexate Oral 2.5 mg | G |  | $3.45 |  | $0.31
0827 | Floxuridine injection 500 mg | G |  | $129.56 |  | $16.64
0828 | Gemcitabine HCL 200 mg | G |  | $106.72 |  | $15.28
0830 | Irinotecan injection 20 mg | G |  | $134.25 |  | $19.22
0831 | Ifosfomide injection 1 gm | G |  | $156.64 |  | $22.42
0832 | Idarubicin hcl injection 5 mg | G |  | $412.21 |  | $59.01
0833 | Interferon alfacon-1, 1 mcg | G |  | $4.10 |  | $0.59
0834 | Interferon alfa-2a inj recombinant 3 million u | G |  | $34.86 |  | $4.99
0836 | Interferon alfa-2b inj recombinant, 1 million | G |  | $11.28 |  | $1.45
0838 | Interferon gamma 1-b inj, 3 million u | G |  | $285.65 |  | $40.89
0839 | Mechlorethamine hcl inj 10 mg | G |  | $12.01 |  | $1.72
0840 | Melphalan hydrochl 50 mg | G |  | $400.74 |  | $57.37
0841 | Methotrexate sodium inj 5 mg | G |  | $0.45 |  | $0.04
0842 | Fludarabine phosphate inj 50 mg | G |  | $271.82 |  | $38.91
0843 | Pegaspargase, singl dose vial | G |  | $1,225.57 |  | $179.74
0844 | Pentostatin injection, 10 mg | G |  | $1,654.14 |  | $236.80
0847 | Doxorubicin hcl 10 mg vl chemo | G |  | $37.46 |  | $4.81
0849 | Rituximab, 100 mg | G |  | $454.55 |  | $65.07
0850 | Streptozocin injection, 1 gm | G |  | $117.64 |  | $16.84
0851 | Thiotepa injection, 15 mg | G |  | $116.97 |  | $10.59
0852 | Topotecan, 4 mg | G |  | $664.19 |  | $95.08
0853 | Vinblastine sulfate inj, 1 mg | G |  | $4.11 |  | $0.37
0854 | Vincristine sulfate 1 mg inj | G |  | $30.16 |  | $3.87
0855 | Vinorelbine tartrate, 10 mg | G |  | $88.83 |  | $12.72
0856 | Porfimer sodium, 75 mg | G |  | $2,603.66 |  | $372.74
0857 | Bleomycin sulfate injection 15 u | G |  | $289.37 |  | $37.16
0858 | Cladribine, 1mg | G |  | $53.39 |  | $4.83
0859 | Fluorouracil injection 500 mg | G |  | $2.73 |  | $0.25
0860 | Plicamycin (mithramycin) inj 2.5 mg | G |  | $93.80 |  | $13.43
0861 | Leuprolide acetate injection 1 mg | G |  | $69.79 |  | $6.32
0862 | Mitomycin 5 mg inj | G |  | $121.65 |  | $11.01
0863 | Paclitaxel injection, 30 mg | G |  | $173.50 |  | $22.28
0864 | Mitoxantrone hcl, 5 mg | G |  | $244.21 |  | $34.96
0865 | Interferon alfa-n3 inj, human leukocyte derived, 2 | G |  | $7.86 |  | $1.12
0884 | Rho d immune globulin inj, 1 dose pkg | G |  | $34.11 |  | $4.38
0886 | Azathioprine oral 50mg | G |  | $1.25 |  | $0.11
0887 | Azathioprine parenteral 100 mg | G |  | $1.06 |  | $0.10
0888 | Cyclosporine oral 100 mg | G |  | $5.22 |  | $0.67
0889 | Cyclosporin parenteral 250mg | G |  | $25.08 |  | $3.22
0890 | Lymphocyte immune globulin 250 mg | G |  | $269.06 |  | $38.52
0891 | Tacrolimus oral per 1 mg | G |  | $2.91 |  | $0.42
0900 | Alglucerase injection, per 10 u | G |  | $37.53 |  | $5.37
0901 | Alpha 1 proteinase inhibitor, 10 mg | G |  | $2.09 |  | $0.30
0902 | Botulinum toxin a, per unit | G |  | $4.39 |  | $0.63
0903 | Cytomegalovirus imm IV/vial | G |  | $638.48 |  | $91.40
0905 | Immune globulin 500 mg | G |  | $35.63 |  | $3.23
0906 | RSV-ivig, 50 mg | G |  | $15.51 |  | $1.99
0907 | Ganciclovir Sodium 500 mg injection | K | 0.42 | $21.38 |  | $4.28
0908 | Tetanus immune globulin inj up to 250 u | G |  | $102.60 |  | $13.18
0909 | Interferon beta-1a, 33 mcg | G |  | $225.22 |  | $32.24
0910 | Interferon beta-1b/0.25 mg | G |  | $68.40 |  | $9.79
0911 | Streptokinase per 250,000 iu | K | 1.67 | $85.01 |  | $17.00
0913 | Ganciclovir long act implant 4.5 mg | G |  | $4,750.00 |  | $680.00
0916 | Injection imiglucerase/unit | G |  | $3.75 |  | $0.54
0917 | Pharmacologic stressors | K | 0.35 | $17.82 |  | $3.56
0925 | Factor viii per iu | G |  | $0.87 |  | $0.08
0926 | Factor VIII (porcine) per iu | G |  | $2.09 |  | $0.30
0927 | Factor viii recombinant per iu | G |  | $1.12 |  | $0.14
0928 | Factor ix complex per iu | G |  | $0.48 |  | $0.04
0929 | Anti-inhibitor per iu | G |  | $1.43 |  | $0.18
0930 | Antithrombin iii injection per iu | G |  | $1.05 |  | $0.15
0931 | Factor IX non-recombinant, per iu | G |  | $0.71 |  | $0.09
0932 | Factor IX recombinant, per iu | G |  | $1.12 |  | $0.16
0949 | Plasma, Pooled Multiple Donor, Solvent/Detergent T | K | 2.80 | $142.53 |  | $28.51
0950 | Blood (Whole) For Transfusion | K | 1.98 | $100.79 |  | $20.16
0952 | Cryoprecipitate | K | 0.66 | $33.60 |  | $6.72
0954 | RBC leukocytes reduced | K | 2.69 | $136.93 |  | $27.39
0955 | Plasma, Fresh Frozen | K | 2.14 | $108.93 |  | $21.79
0956 | Plasma Protein Fraction | K | 1.20 | $61.08 |  | $12.22
0957 | Platelet Concentrate | K | 0.93 | $47.34 |  | $9.47
0958 | Platelet Rich Plasma | K | 1.11 | $56.50 |  | $11.30
0959 | Red Blood Cells | K | 1.95 | $99.26 |  | $19.85
0960 | Washed Red Blood Cells | K | 3.62 | $184.27 |  | $36.85
0961 | Infusion, Albumin (Human) 5%, 50 ml | K | 2.08 | $105.88 |  | $21.18
0962 | Infusion, Albumin (Human) 25%, 50 ml | K | 1.05 | $53.45 |  | $10.69
0963 | Albumin (human), 5%, 250 ml | K | 10.35 | $526.86 |  | $105.37
0964 | Albumin (human), 25%, 20 ml | K | 2.08 | $105.88 |  | $21.18
0965 | Albumin (human), 25%, 50ml | K | 5.20 | $264.70 |  | $52.94
0966 | Plasmaprotein fract, 5%, 250ml | K | 5.95 | $302.88 |  | $60.58
0970 | New Technology—Level I ($0-$50) | T |  | $25.00 |  | $5.00
0971 | New Technology—Level II ($50-$100) | T |  | $75.00 |  | $15.00
0972 | New Technology—Level III ($100-$200) | T |  | $150.00 |  | $30.00
0973 | New Technology—Level IV ($200-$300) | T |  | $250.00 |  | $50.00
0974 | New Technology—Level V ($300-$500) | T |  | $400.00 |  | $80.00
0975 | New Technology—Level VI ($500-$750) | T |  | $625.00 |  | $125.00
0976 | New Technology—Level VII ($750-$1000) | T |  | $875.00 |  | $175.00
0977 | New Technology—Level VIII ($1000-$1250) | T |  | $1,125.00 |  | $225.00
0978 | New Technology—Level IX ($1250-$1500) | T |  | $1,375.00 |  | $275.00
0979 | New Technology—Level X ($1500-$1750) | T |  | $1,625.00 |  | $325.00
0980 | New Technology—Level XI ($1750-$2000) | T |  | $1,875.00 |  | $375.00
0981 | New Technology—Level XII ($2000-$2500) | T |  | $2,250.00 |  | $450.00
0982 | New Technology—Level XIII ($2500-$3000) | T |  | $2,750.00 |  | $550.00
0983 | New Technology_Level XIV ($3000@ndash;$3500) | T |  | $3,250.00 |  | $650.00
0984 | New Technology—Level XV ($3500-$5000) | T |  | $4,250.00 |  | $850.00
0985 | New Technology—Level XVI ($5000-$6000) | T |  | $5,500.00 |  | $1,100.00
1002 | Cochlear implant system | H |  |  |  |
1009 | Cryoprecip reduced plasma | K | 0.82 | $41.74 |  | $8.35
1010 | Blood, L/R, CMV-neg | K | 2.74 | $139.48 |  | $27.90
1011 | Platelets, HLA-m, L/R, unit | K | 11.27 | $573.69 |  | $114.74
1012 | Platelet concentrate, L/R, irradiated, unit | K | 1.83 | $93.15 |  | $18.63
1013 | Platelet concentrate, L/R, unit | K | 1.12 | $57.01 |  | $11.40
1014 | Platelets, aph/pher, L/R, unit | K | 8.50 | $432.68 |  | $86.54
1016 | Blood, L/R, froz/deglycerol/washed | K | 6.80 | $346.15 |  | $69.23
1017 | Platelets, aph/pher, L/R, CMV-neg, unit | K | 8.86 | $451.01 |  | $90.20
1018 | Blood, L/R, irradiated | K | 2.98 | $151.69 |  | $30.34
1019 | Platelets, aph/pher, L/R, irradiated, unit | K | 9.16 | $466.28 |  | $93.26
1024 | Quinupristin/dalfopristin 500 mg (150/350) | G |  | $102.05 |  | $13.11
1045 | Iobenguane sulfate I-131 | G |  | $495.65 |  | $70.96
1058 | TC 99M oxidronate, per vial | G |  | $36.74 |  | $5.26
1059 | Cultured chondrocytes implnt | G |  | $14,250.00 |  | $2,040.00
1064 | I-131 cap, each add mCi | G |  | $5.86 |  | $0.75
1065 | I-131 sol, each add mCi | G |  | $15.81 |  | $2.03
1066 | IN 111 satumomab pendetide | G |  | $1,591.25 |  | $227.80
1079 | CO 57/58 0.5 mCi | G |  | $253.84 |  | $36.34
1084 | Denileukin diftitox, 300 MCG | G |  | $999.88 |  | $143.14
1086 | Temozolomide, oral 5 mg | G |  | $6.05 |  | $0.87
1087 | I-123 per 100 uci | G |  | $0.65 |  | $0.06
1089 | Coo 57, 0.5 Mci | G |  | $81.10 |  | $10.41
1091 | IN 111 Oxyquinoline, per .5 mCi | G |  | $427.50 |  | $61.20
1092 | IN 111 Pentetate, per 0.5 mCi | G |  | $256.50 |  | $23.22
1094 | TC 99M Albumin aggr,1.0 cmCi | G |  | $33.09 |  | $4.25
1095 | Technetium TC 99M Depreotide | G |  | $38.00 |  | $5.44
1096 | TC 99M Exametazime, per dose | G |  | $445.31 |  | $63.75
1097 | TC 99M Mebrofenin, per vial | G |  | $51.44 |  | $7.36
1098 | TC 99M Pentetate, per vial | G |  | $22.43 |  | $2.88
1099 | TC 99M Pyrophosphate, per vial | G |  | $39.11 |  | $5.60
1122 | TC 99M arcitumomab, per vial | G |  | $1,235.00 |  | $176.80
1166 | Cytarabine liposomal, 10 mg | G |  | $371.45 |  | $53.18
1167 | Epirubicin hcl, 2 mg | G |  | $24.94 |  | $3.57
1178 | Busulfan IV, 6 mg | G |  | $26.48 |  | $3.79
1188 | I-131 cap, per 1-5 mCi | G |  | $117.25 |  | $15.06
1200 | TC 99M Sodium Glucoheptonate | G |  | $22.61 |  | $3.24
1201 | TC 99M succimer, per vial | G |  | $135.66 |  | $19.42
1202 | TC 99M Sulfur Colloid, per dose | G |  | $76.00 |  | $9.76
1203 | Verteporfin for injection | G |  | $1,458.25 |  | $208.76
1205 | Technetium Tc 99m disofenin | G |  | $79.17 |  | $11.33
1207 | Octreotide acetate depot 1mg | G |  | $138.08 |  | $19.77
1305 | Apligraf | G |  | $1,157.81 |  | $165.75
1348 | I-131 sol, per 1-6 mCi | G |  | $146.57 |  | $18.82
1400 | Diphenhydramine hcl 50mg | G |  | $0.23 |  | $0.02
1401 | Prochlorperazine maleate 5mg | G |  | $0.65 |  | $0.06
1402 | Promethazine hcl 12.5mg oral | G |  | $0.01 |  |
1403 | Chlorpromazine hcl 10mg oral | G |  | $0.27 |  | $0.02
1404 | Trimethobenzamide hcl 250mg | G |  | $0.38 |  | $0.03
1405 | Thiethylperazine maleate10mg | G |  | $0.56 |  | $0.08
1406 | Perphenazine 4mg oral | G |  | $0.62 |  | $0.06
1407 | Hydroxyzine pamoate 25mg | G |  | $0.28 |  | $0.03
1409 | Factor viia recombinant, per 1.2 mg | G |  | $1,596.00 |  | $228.48
1600 | Technetium TC 99M sestamibi | G |  | $121.70 |  | $17.42
1601 | Technetium TC 99M medronate | G |  | $42.18 |  | $5.42
1602 | Technetium TC 99M apcitide | G |  | $475.00 |  | $68.00
1603 | Thallous chloride TL 201, per mCi | G |  | $78.16 |  | $7.08
1604 | IN 111 capromab pendetide, per dose | G |  | $2,192.13 |  | $313.82
1605 | Abciximab injection, 10 mg | G |  | $513.02 |  | $73.44
1606 | Anistreplase, 30 u | G |  | $2,693.80 |  | $385.64
1607 | Eptifibatide injection, 5 mg | G |  | $11.31 |  | $1.45
1608 | Etanercept injection, 25 mg | G |  | $141.01 |  | $20.19
1609 | Rho(D) immune globulin h, sd, 100 iu | G |  | $20.55 |  | $2.64
1611 | Hylan G-F 20 injection, 16 mg | G |  | $213.87 |  | $27.47
1612 | Daclizumab, parenteral, 25 mg | G |  | $397.29 |  | $56.88
1613 | Trastuzumab, 10 mg | G |  | $52.83 |  | $7.56
1614 | Valrubicin, 200 mg | G |  | $423.22 |  | $60.59
1615 | Basiliximab, 20 mg | G |  | $1,437.78 |  | $205.83
1616 | Histrelin acetate, 10 mgs | G |  | $14.16 |  | $2.03
1617 | Lepirudin | G |  | $131.96 |  | $18.89
1618 | Vonwillebrandfactrcmplx, per iu | G |  | $0.95 |  | $0.14
1619 | Ga 67, per mCi | G |  | $25.62 |  | $2.32
1620 | Technetium tc99m bicisate | G |  | $403.99 |  | $57.83
1621 | Xenin xe 133 | G |  | $29.93 |  | $2.71
1622 | Technetium tc99m mertiatide | G |  | $137.75 |  | $19.72
1623 | Technetium tc99m glucepatate | G |  | $22.61 |  | $3.24
1624 | Sodium phosphate p32 | G |  | $81.10 |  | $7.78
1625 | Indium 111-in pentetreotide | G |  | $935.75 |  | $133.96
1626 | Technetium tc99m oxidronate | G |  | $1.47 |  | $0.21
1627 | Technetium tc99mlabeled rbcs | G |  | $40.90 |  | $5.85
1628 | Chromic phosphate p32 | G |  | $150.86 |  | $21.60
1713 | Anchor/screw bn/bn,tis/bn | H |  |  |  |
1714 | Cath, trans atherectomy, dir | H |  |  |  |
1715 | Brachytherapy needle | H |  |  |  |
1716 | Brachytx seed, Gold 198 | H |  |  |  |
1717 | Brachytx seed, HDR Ir-192 | H |  |  |  |
1718 | Brachytx seed, Iodine 125 | H |  |  |  |
1719 | Brachytxseed, Non-HDR Ir-192 | H |  |  |  |
1720 | Brachytx seed, Palladium 103 | H |  |  |  |
1721 | AICD, dual chamber | H |  |  |  |
1722 | AICD, single chamber | H |  |  |  |
1724 | Cath, trans atherec,rotation | H |  |  |  |
1725 | Cath, translumin non-laser | H |  |  |  |
1726 | Cath, bal dil, non-vascular | H |  |  |  |
1727 | Cath, bal tis dis, non-vas | H |  |  |  |
1728 | Cath, brachytx seed adm | H |  |  |  |
1729 | Cath, drainage | H |  |  |  |
1730 | Cath, EP, 19 or fewer elect | H |  |  |  |
1731 | Cath, EP, 20 or more elec | H |  |  |  |
1732 | Cath, EP, diag/abl, 3D/vect | H |  |  |  |
1733 | Cath, EP, othr than cool-tip | H |  |  |  |
1750 | Cath, hemodialysis,long-term | H |  |  |  |
1751 | Cath, inf, per/cent/midline | H |  |  |  |
1752 | Cath, hemodialysis,short-term | H |  |  |  |
1753 | Cath, intravas ultrasound | H |  |  |  |
1754 | Catheter, intradiscal | H |  |  |  |
1755 | Catheter, intraspinal | H |  |  |  |
1756 | Cath, pacing, transesoph | H |  |  |  |
1757 | Cath, thrombectomy/embolect | H |  |  |  |
1758 | Cath, ureteral | H |  |  |  |
1759 | Cath, intra echocardiography | H |  |  |  |
1760 | Closure dev, vasc, imp/insert | H |  |  |  |
1762 | Conn tiss, human (inc fascia) | H |  |  |  |
1763 | Conn tiss, non-human | H |  |  |  |
1764 | Event recorder, cardiac | H |  |  |  |
1765 | Adhesion barrier | H |  |  |  |
1766 | Intro/sheath, strble, non-peel | H |  |  |  |
1767 | Generator, neurostim, imp | H |  |  |  |
1768 | Graft, vascular | H |  |  |  |
1769 | Guide wire | H |  |  |  |
1770 | Imaging coil, MR, insertable | H |  |  |  |
1771 | Rep dev, urinary, w/sling | H |  |  |  |
1772 | Infusion pump, programmable | H |  |  |  |
1773 | Retrieval dev, insert | H |  |  |  |
1775 | FDG, per dose (4-40 mCi/ml) | G |  | $475.00 |  | $68.00
1776 | Joint device (implantable) | H |  |  |  |
1777 | Lead, AICD, endo single coil | H |  |  |  |
1778 | Lead, neurostimulator | H |  |  |  |
1779 | Lead, pmkr, transvenous VDD | H |  |  |  |
1780 | Lens, intraocular | H |  |  |  |
1781 | Mesh (implantable) | H |  |  |  |
1782 | Morcellator | H |  |  |  |
1784 | Ocular dev, intraop, det ret | H |  |  |  |
1785 | Pmkr, dual, rate-resp | H |  |  |  |
1786 | Pmkr, single, rate-resp | H |  |  |  |
1787 | Patient progr, neurostim | H |  |  |  |
1788 | Port, indwelling, imp | H |  |  |  |
1789 | Prosthesis, breast, imp | H |  |  |  |
1813 | Prosthesis, penile, inflatab | H |  |  |  |
1815 | Pros, urinary sph, imp | H |  |  |  |
1816 | Receiver/transmitter, neuro | H |  |  |  |
1817 | Septal defect imp sys | H |  |  |  |
1874 | Stent, coated/cov w/del sys | H |  |  |  |
1875 | Stent, coated/cov w/o del sy | H |  |  |  |
1876 | Stent, non-coa/no-cov w/del | H |  |  |  |
1877 | Stent, non-coat/cov w/o del | H |  |  |  |
1878 | Matrl for vocal cord | H |  |  |  |
1879 | Tissue marker, imp | H |  |  |  |
1880 | Vena cava filter | H |  |  |  |
1881 | Dialysis access system | H |  |  |  |
1882 | AICD, other than sing/dual | H |  |  |  |
1883 | Adapt/ext, pacing/neuro lead | H |  |  |  |
1885 | Cath, translumin angio laser | H |  |  |  |
1887 | Catheter, guiding | H |  |  |  |
1891 | Infusion pump, non-prog, perm | H |  |  |  |
1892 | Intro/sheath, fixed, peel-away | H |  |  |  |
1893 | Intro/sheath, fixed, non-peel | H |  |  |  |
1894 | Intro/sheath, non-laser | H |  |  |  |
1895 | Lead, AICD, endo dual coil | H |  |  |  |
1896 | Lead, AICD, non sing/dual | H |  |  |  |
1897 | Lead, neurostim test kit | H |  |  |  |
1898 | Lead, pmkr, other than trans | H |  |  |  |
1899 | Lead, pmkr/AICD combination | H |  |  |  |
2615 | Sealant, pulmonary, liquid | H |  |  |  |
2616 | Brachytx seed, Yttrium-90 | H |  |  |  |
2617 | Stent, non-cor, tem w/o del | H |  |  |  |
2618 | Probe, cryoablation | H |  |  |  |
2619 | Pmkr, dual, non rate-resp | H |  |  |  |
2620 | Pmkr, single, non rate-resp | H |  |  |  |
2621 | Pmkr, other than sing/dual | H |  |  |  |
2622 | Prosthesis, penile, non-inf | H |  |  |  |
2625 | Stent, non-cor, tem w/del sys | H |  |  |  |
2626 | Infusion pump, non-prog, temp | H |  |  |  |
2627 | Cath, suprapubic/cystoscopic | H |  |  |  |
2628 | Catheter, occlusion | H |  |  |  |
2629 | Intro/sheath, laser | H |  |  |  |
2630 | Cath, EP, cool-tip | H |  |  |  |
2631 | Rep dev, urinary, w/o sling | H |  |  |  |
7000 | Amifostine, 500 mg | G |  | $392.06 |  | $56.13
7001 | Amphotericin B lipid complex, 50 mg | G |  | $109.25 |  | $15.64
7003 | Epoprostenol injection 0.5 mg | G |  | $12.04 |  | $1.72
7005 | Gonadorelin hydroch, 100 mcg | G |  | $192.37 |  | $27.54
7007 | Milrinone lactate, per 5 ml, inj | K | 0.44 | $22.40 |  | $4.48
7010 | Morphine sulfate (preservative free) 10 mg | G |  | $1.02 |  | $0.09
7011 | Oprelvekin injection, 5 mg | G |  | $245.81 |  | $35.19
7014 | Fentanyl citrate injection | G |  | $1.23 |  | $0.11
7015 | Busulfan, oral, 2 mg | G |  | $1.91 |  | $0.27
7019 | Aprotinin, 10,000 kiu | G |  | $2.16 |  | $0.31
7022 | Elliot's B solution, per ml | G |  | $1.43 |  | $0.20
7023 | Bladder calculi irrig sol | G |  | $24.70 |  | $3.54
7024 | Corticorelin ovine triflutat | G |  | $368.03 |  | $52.69
7025 | Digoxin immune FAB (ovine) | G |  | $551.66 |  | $78.97
7026 | Ethanolamine oleate, 100 mg | G |  | $39.73 |  | $5.69
7027 | Fomepizole, 15 mg | G |  | $10.93 |  | $1.56
7028 | Fosphenytoin, 50 mg | G |  | $5.73 |  | $0.82
7029 | Glatiramer acetate, per dose | G |  | $30.07 |  | $4.30
7030 | Hemin, per 1 mg | G |  | $0.99 |  | $0.14
7031 | Octreotide acetate injection | G |  | $138.08 |  | $19.77
7032 | Sermorelin acetate, 0.5 mg | G |  | $13.60 |  | $1.95
7033 | Somatrem, 5mg | G |  | $209.48 |  | $29.99
7034 | Somatropin injection | G |  | $39.90 |  | $5.12
7035 | Teniposide, 50 mg | G |  | $222.80 |  | $31.90
7036 | Urokinase 250,000 iu inj | K | 6.44 | $327.82 |  | $65.56
7037 | Urofollitropin, 75 iu | G |  | $73.29 |  | $10.49
7038 | Muromonab-CD3, 5 mg | G |  | $269.06 |  | $38.52
7039 | Pegademase bovine inj 25 I.U | G |  | $139.33 |  | $19.95
7040 | Pentastarch 10% solution | G |  | $15.11 |  | $2.16
7041 | Tirofiban hydrochloride 12.5 mg | G |  | $436.41 |  | $62.48
7042 | Capecitabine, oral, 150 mg | G |  | $2.43 |  | $0.35
7043 | Infliximab injection 10 mg | G |  | $63.24 |  | $9.05
7045 | Trimetrexate glucoronate | G |  | $118.75 |  | $17.00
7046 | Doxorubicin hcl liposome inj 10 mg | G |  | $358.95 |  | $51.39
7047 | Droperidol/fentanyl inj | G |  | $6.67 |  | $0.95
7048 | Alteplase recombinant | K | 0.36 | $18.33 |  | $3.67
7049 | Filgrastim 480 mcg injection | G |  | $285.38 |  | $36.65
7050 | Prednisone oral | G |  | $0.07 |  | $0.01
7051 | Leuprolide acetate implant, 65 mg | G |  | $5,399.80 |  | $773.02
7052 | Somatrem injection | G |  | $41.90 |  | $6.00
7315 | Sodium hyaluronate injection, 20mg | G |  | $130.63 |  | $18.70
7316 | Sodium hyaluronate injection, 5mg | G |  | $26.13 |  | $3.74
9000 | Na chromate Cr51, per 0.25mCi | G |  | $0.52 |  | $0.07
9001 | Linezolid inj, 200mg | G |  | $24.13 |  | $3.45
9002 | Tenecteplase, 50mg/vial | G |  | $2,612.50 |  | $374.00
9003 | Palivizumab, per 50mg | G |  | $664.49 |  | $95.13
9004 | Gemtuzumab ozogamicin inj, 5mg | G |  | $1,929.69 |  | $276.25
9005 | Reteplase injection | G |  | $1,306.25 |  | $187.00
9006 | Tacrolimus inj | G |  | $113.15 |  | $16.20
9007 | Baclofen Intrathecal kit-1amp | G |  | $79.80 |  | $11.42
9008 | Baclofen refill kit_per 500 mcg | G |  | $11.69 |  | $1.67
9009 | Baclofen refill kit—per 2000 mcg | G |  | $49.12 |  | $7.03
9010 | Baclofen refill kit—per 4000 mcg | G |  | $43.08 |  | $6.17
9011 | Caffeine Citrate, inj, | G |  | $3.05 |  | $0.44
9012 | Arsenic Trioxide | G |  | $23.75 |  | $3.40
9013 | Co 57 Cobaltous CI | G |  | $81.10 |  | $10.41
9015 | Mycophenolate mofetil oral 250 mg | G |  | $2.40 |  | $0.34
9016 | Echocardiography contrast | G |  | $118.75 |  | $17.00
9018 | Botulinum tox B, per 100 u | G |  | $8.79 |  | $1.26
9019 | Caspofungin acetate, 5 mg | G |  | $34.20 |  | $4.90
9020 | Sirolimus tablet, 1 mg | G |  | $6.51 |  | $0.93
9100 | Iodinated I-131 albumin | G |  | $10.34 |  | $1.48
9102 | 51 na chromate, per 50mCi | G |  | $64.84 |  | $9.28
9103 | Na iothalamate I-125, per 10 uci | G |  | $17.18 |  | $2.46
9104 | Anti-thymocycte globulin rabbit | G |  | $325.09 |  | $46.54
9105 | Hep B imm glob, per 1 ml | G |  | $133.00 |  | $17.08
9106 | Sirolimus, 1 mg | G |  | $6.51 |  | $0.93
9108 | Thyrotropin alfa, per 1.1 mg | G |  | $531.05 |  | $76.02
9109 | Tirofliban hcl, per 6.25 mg | G |  | $207.81 |  | $29.75
9110 | Alemtuzumab, per ml | G |  | $486.88 |  | $69.70
9111 | Inj, bivalirudin, per 250mg vial | G |  | $397.81 |  | $56.95
9112 | Perflutren lipid micro, per 2ml | G |  | $148.20 |  | $21.22
9113 | Inj pantoprazole sodium, vial | G |  | $22.80 |  | $3.26
9114 | Nesiritide, per 1.5 mg vial | G |  | $433.20 |  | $62.02
9115 | Inj, zoledronic acid, per 2 mg | G |  | $406.78 |  | $58.23
9200 | Orcel, per 36 cm2 | G |  | $1,135.25 |  | $162.52
9201 | Dermagraft, per 37.5 sq cm | G |  | $577.60 |  | $82.69
9217 | Leuprolide acetate suspnsion, 7.5 mg | G |  | $592.60 |  | $84.84
9500 | Platelets, irradiated | K | 1.69 | $86.03 |  | $17.21
9501 | Platelets, pheresis | K | 9.22 | $469.33 |  | $93.87
9502 | Platelet pheresis irradiated | K | 10.00 | $509.04 |  | $101.81
9503 | Fresh frozen plasma, ea unit | K | 1.57 | $79.92 |  | $15.98
9504 | RBC deglycerolized | K | 4.14 | $210.74 |  | $42.15
9505 | RBC irradiated | K | 2.45 | $124.71 |  | $24.94
9506 | Granulocytes, pheresis | K | 28.14 | $1,432.44 |  | $286.49

Addendum D.—Payment Status Indicators for the Hospital Outpatient Prospective Payment System
Indicator | Service | Status
A | Pulmonary Rehabilitation Clinical Trial | Not Paid Under Outpatient PPS.
A | Durable Medical Equipment, Prosthetics and Orthotics | DMEPOS Fee Schedule.
A | Physical, Occupational and Speech Therapy | Physician Fee Schedule.
A | Ambulance | Ambulance Fee Schedule.
A | EPO for ESRD Patients | National Rate.
A | Clinical Diagnostic Laboratory Services | Laboratory Fee Schedule.
A | Physician Services for ESRD Patients | Physician Fee Schedule.
A | Screening Mammography | Physician Fee Schedule.
C | Inpatient Procedures | Admit Patient; Bill as Inpatient.
D | Deleted Code | Codes are deleted effective with the beginning of the calendar year.
E | Non-Covered Items and Services | Not Paid Under Outpatient PPS.
F | Acquisition of Corneal Tissue | Paid at Reasonable Cost.
G | Drug/Biological Pass-Through | Additional Payment.
H | Device Pass-Through | Additional Payment.
K | Non Pass-Through Drug/Biological | Paid Under Outpatient PPS.
N | Incidental Services, packaged into APC Rate | Packaged.
P | Partial Hospitalization | Paid Per Diem APC.
S | Significant Procedure, Not Discounted When Multiple | Paid Under Outpatient PPS.
T | Significant Procedure, Multiple Procedure Reduction Applies | Paid Under Outpatient PPS.
V | Visit to Clinic or Emergency Department | Paid Under Outpatient PPS.
X | Ancillary Service | Paid Under Outpatient PPS.

[FR Doc. 02-5071 Filed 2-28-02; 8:45 am]

BILLING CODE 4120-01-P